ENVIRONMENTAL PROTECTION AGENCY

[FRL-8963-2]

Science Advisory Board Staff Office Request for Nominations of Experts To Provide Advice on Ecological Impacts Associated With Mountaintop Mining and Valley-Fill Operations

AGENCY: Environmental Protection Agency (EPA).

ACTION: Notice.

SUMMARY: The EPA Science Advisory Board (SAB) Staff Office is requesting nominations to form an ad hoc panel, under the auspices of the SAB, to provide expert advice to the EPA on a draft assessment of the ecological impacts associated with a surface coal mining technique known as mountaintop mining and valley-fill where mining overburden is placed in adjacent valleys. This assessment is being prepared by EPA's Office of Research and Development (ORD) at the request of EPA's Regional Office in Philadelphia, PA (Region 3).

DATES: Nominations should be submitted by October 16, 2009 per the instructions below.

FOR FURTHER INFORMATION CONTACT: Any member of the public wishing further information regarding this request for nominations may contact Mr. Edward Hanlon, Designated Federal Officer (DFO), SAB Staff Office, by telephone/voice mail at (202) 343-9946; by fax at (202) 233-0643 or via e-mail at hanlon.edward@epa.gov. General information concerning the EPA Science Advisory Board can be found at the EPA SAB Web site at: http://www.epa.gov/sab. Any inquiry regarding EPA's Region 3 activities related to mountaintop mining and valley-fill operations should be directed to Mr. John Forren, Associate Director for Monitoring and Assessment, Environmental Assessment and Innovation Division, Region 3 EPA, who may be contacted via telephone at (215) 814-2705 or by e-mail at forren.john@epa.gov. Any inquiry regarding EPA's ORD draft assessment on the ecological impacts of mountaintop mining and valley-fill operations should be directed to Dr. Michael Slimak, Associate Director of Ecology, National Center for Environmental Assessment, who may be contacted via telephone at (703) 347-8524 or by e-mail at slimak.michael@epa.gov. The public release of this assessment, which is expected in mid-November 2009, will be announced in the Federal Register and posted on the NCEA Web site at http://www.epa.gov/ncea.

SUPPLEMENTARY INFORMATION: Background: Recent published scientific information reveals that mountaintop mining and valley-fill operations in Southern Appalachia may be linked to degraded water quality and adverse impacts on in-stream biota. Discharges from surface coal mining operations are regulated under the Clean Water Act (CWA). CWA Section 402 provides authority to regulate discharges of pollutants to streams from valley-fills and associated operations. CWA Section 404 provides authority to regulate construction of the valley-fill itself to the extent rock and dirt are placed in waters of the United States, including streams and wetlands. Surface coal mining operations are regulated under the Surface Mining Control and Reclamation Act of 1977 (SMCRA).

EPA's Region 3 Office has requested EPA's ORD to prepare a scientific assessment of the ecological impacts related to mountaintop mining and valley-fill operations. The scope of this assessment includes: loss of headwater streams, downstream water quality and subsequent effects on in-stream biota, and cumulative ecological impacts. In addition, the draft assessment will evaluate restoration and recovery methods used by mining companies to address these ecological impacts associated with mountaintop mining and valley-fill operations. Cultural, aesthetic and human health impacts that may be associated with this mining technique are not part of the scope of this current assessment. ORD requested the SAB review and provide advice on the scientific adequacy, suitability and appropriateness of the draft assessment.

The SAB was established by 42 U.S.C. 4365 to provide independent scientific and technical advice, consultation, and recommendations to the EPA Administrator on the technical basis for Agency positions and regulations. In response to ORD's request, the SAB Staff Office will form an expert Panel to review and provide advice to ORD regarding its draft assessment of ecological impacts related to mountaintop mining and valley-fill operations. The SAB expert advisory panel on the ecological impacts related to mountaintop mining and valley-fill operations will comply with the provisions of the Federal Advisory Committee Act (FACA) and all appropriate SAB procedural policies. Upon completion, the panel's report will be submitted to the chartered SAB for final approval for transmittal to the EPA Administrator.

Request for Nominations: The SAB Staff Office is seeking individuals with nationally recognized expertise, experience, knowledge, and field experience in the following disciplinary areas associated with mountaintop mining and valley-fill operations: aquatic ecology, aquatic toxicology, hydrogeology, water quality, mining engineering, ecosystem restoration, inorganic chemistry, freshwater ecological risk assessment, and systems ecology. Qualified nominees will be considered for serving on this ad hoc panel.

Process and Deadline for Submitting Nominations: Any interested person or organization may nominate qualified individuals for possible service on the augmented EEAC in the areas of expertise described above. Nominations should be submitted in electronic format (which is preferred over hard copy) following the instructions for “Nominating Experts to Advisory Panels and Ad Hoc Committees Being Formed” provided on the SAB Web site. The electronic nomination can be accessed through the “Nomination of Experts” link on the blue navigational bar on the SAB Web site at http://www.epa.gov/sab. To receive full consideration, nominations should include all of the information requested.

EPA's SAB Staff Office requests contact information about the person making the nomination; contact information about the nominee; the disciplinary and specific areas of expertise of the nominee; the nominee's curriculum vitae; sources of recent grants and/or contracts; and a biographical sketch of the nominee indicating current position, educational background, research activities, and recent service on other national advisory committees or national professional organizations.

The EPA SAB Staff Office will acknowledge receipt of nominations. The names and biosketchs of qualified nominees identified by respondents to the Federal Register notice and additional experts identified by the SAB Staff will be posted on the SAB Web site at http://www.epa.gov/sab. Public comments on this “Short List” of candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In establishing the final ad hoc panel, the SAB Staff Office will consider public comments on the “Short List” of candidates, information provided by the candidates themselves, and background information independently gathered by the SAB Staff Office. Specific criteria to be used for panel membership include: (a) Scientific and/or technical expertise, knowledge, and experience (primary factors); (b) availability and willingness to serve; (c) absence of financial conflicts of interest; (d) absence of an appearance of a lack of impartiality; (e) skills working in committees, subcommittees and advisory panels; and, for the panel as a whole, (f) diversity of, and balance among, scientific expertise, viewpoints, etc.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: September 18, 2009.
Anthony F. Maciorowski,
Deputy Director, EPA Science Advisory Board Staff Office.

[FR Doc. E9-23231 Filed 9-24-09; 8:45 am]

BILLING CODE 6560-50-P